LIBRARY OF CONGRESS

Copyright Office

[Docket No. 2005-2 CARP CRA]

Adjustment of Cable Statutory License Royalty Rates

AGENCY: Copyright Office, Library of Congress.

ACTION: Request for comments.

SUMMARY: The Copyright Office of the Library of Congress is requesting comment as to whether the 2005 cable statutory license rate adjustment proceeding should take place under the auspices of the Copyright Arbitration Royalty Panel (“CARP”) system or the new Copyright Royalty Judge (“CRJ”) system.

DATES: Comments should be received by the Copyright Office no later than February 16, 2005.

ADDRESSES: If hand delivered by a private party, an original and five copies of a comment should be brought to Room LM-401 of the James Madison Memorial Building and the envelope should be addressed as follows: Office of the General Counsel/CARP, U.S. Copyright Office, James Madison Memorial Building, Room LM-401, 101 Independence Avenue, SE, Washington, DC 20559-6000 between 8:30 a.m. and 5p.m. If delivered by a commercial carrier, an original and five copies of a comment must be delivered to the Congressional Courier Acceptance Site located at 2nd and D Street, NE, between 8:30 a.m. and 4 p.m. The envelope should be addressed as follows: Office of the General Counsel/CARP, Room 403, James Madison Memorial Building, 101 Independence Avenue, SE, Washington, DC. If sent by mail (including overnight delivery using U.S. Postal Service Express Mail), an original and five copies of a comment should be addressed to: Copyright Arbitration Royalty Panel (CARP), P.O. Box 70977, Southwest Station, Washington, DC 20024-0977. Comments may not be delivered by means of overnight delivery services such as Federal Express, United Parcel Service, etc., due to delays in processing receipt of such deliveries.

FOR FURTHER INFORMATION CONTACT: David O. Carson, General Counsel, or Tanya M. Sandros, Associate General Counsel, Copyright Arbitration Royalty Panel (CARP), P.O. Box 70977, Southwest Station, Washington, DC 20024-0977. Telephone: (202) 707-8380. Telefax: (202) 252-3423.

SUPPLEMENTARY INFORMATION: Section 111 of title 17 of the United States Code creates a statutory license for cable systems that retransmit to their subscribers over-the-air broadcast signals. Royalty fees for this license are calculated as percentages of a cable system's gross receipts received from subscribers for receipt of broadcast signals. A cable system's individual gross receipts determine the applicable percentages. These percentages, and the gross receipts limitations, are published in 37 CFR part 256 and are subject to adjustment at five-year intervals. 17 U.S.C. 801(b)(2)(A) & (D) (2000). This is a window year for such an adjustment.

On January 10, 2005, the Copyright Office received a joint petition from representatives of copyright owners of sports programming (“Joint Sports Claimants”) and motion pictures and syndicated television series (“Program Suppliers”) requesting commencement of a cable rate adjustment proceeding. See http://www.copyright.gov/carp/cable-rate-petition.pdf. As part of the joint petition, Joint Sports Claimants and Program Suppliers request that their “petition and any resulting proceeding be handled pursuant to existing CARP procedures, rather than under the new provisions established by the Copyright Royalty and Distribution Reform Act of 2004 (`CRDRA').” Joint petition at 2. They assert that their request is consistent with the CRDRA, Pub. L. 108-419, which does not take effect until May 30, 2005, and note that the CRDRA does not contain a provision for a termination of proceedings that addresses petitions filed between November 30, 2004, and May 30, 2005. Furthermore, Joint Sports Claimants and Program Suppliers submit that a CARP proceeding will resolve the 2005 cable rate adjustment more expeditiously than the CRJs which, in their view, could take more than two years to finalize. Id. at 3.

The Copyright Office seeks public comment as to whether it is appropriate and/or required that the 2005 cable rate adjustment be resolved through the CARP process set forward in chapter 8 of the Copyright Act prior to passage of the CRDRA, or whether the joint petition filed by the Joint Sports Claimants and the Program Suppliers should be terminated and transferred to the CRJs.

Dated: January 21, 2005
Marybeth Peters,
Register of Copyrights.

[FR Doc. 05-1436 Filed 1-25-05; 8:45 am]

BILLING CODE 1410-33-S